DEPARTMENT OF AGRICULTURE

Forest Service

Wallowa-Whitman National Forest; Oregon; Notice of Intent to Cancel Preparation of a Supplement to the 2012 Final Environmental Impact Statement for Snow Basin Vegetation Management Project

AGENCY: Forest Service, USDA.

ACTION: Notice of intent to cancel preparation of a supplemental environmental impact statement.

SUMMARY: On August 6, 2014, the USDA Forest Service published a Notice of Intent in the Federal Register (Vol. 79, No. 151, page 45761) to prepare a Supplement to the Snow Basin Vegetation Management Project Final Environmental Impact Statement (EIS) to address the environmental impact of the project on elk and elk habitat. The USDA Forest Service no longer intends to prepare the Supplement and the project has been cancelled.

FOR FURTHER INFORMATION CONTACT: Dea Nelson, Environmental Coordinator, Wallowa-Whitman National Forest, 1550 Dewey, Suite A, Baker City, OR 97814; or, 541-523-1216; or, dnelson09@fs.fed.us.

Individuals who use telecommunication devices for the deaf (TDD) may call the Federal Information Relay Service (FIRS) at 1-800-877-8339 between 8 a.m. and 8 p.m., Eastern Time, Monday through Friday.

Thomas Montoya,
Forest Supervisor.

[FR Doc. 2016-05090 Filed 3-7-16; 8:45 am]

BILLING CODE 3410-11-P